DEPARTMENT OF ENERGY

Federal Energy Regulatory Commission

Combined Notice of Filings

Take notice that the Commission has received the following Natural Gas Pipeline Rate and Refund Report filings:

Filings Instituting Proceedings

Docket Numbers: RP14-995-000.

Applicants: ANR Pipeline Company.

Description: Wisconsin P&L FTS Agmt to be effective 6/1/2014.

Filed Date: 5/27/14.

Accession Number: 20140527-5030.

Comments Due: 5 p.m. ET 6/9/14.

Docket Numbers: RP14-536-000.

Applicants: Rockies Express Pipeline LLC.

Description: Refund Report to be effective N/A.

Filed Date: 5/23/14.

Accession Number: 20140523-5175.

Comments Due: 5 p.m. ET 6/4/14.

Docket Numbers: RP14-995-000.

Applicants: ANR Pipeline Company.

Description: ANR Pipeline Company submits tariff filing per 154.601: Wisconsin P&L FTS Agmt to be effective 6/1/2014.

Filed Date: 5/27/14.

Accession Number: 20140527-5030.

Comments Due: 5 p.m. ET 6/9/14.

Docket Numbers: RP14-996-000.

Applicants: Columbia Gulf Transmission, LLC.

Description: ELEOP Retainage Filing to be effective 5/1/2011.

Filed Date: 5/27/14.

Accession Number: 20140527-5055.

Comments Due: 5 p.m. ET 6/9/14.

Docket Numbers: RP14-997-000.

Applicants: East Tennessee Natural Gas, LLC.

Description: Wacker Negotiated Rates to be effective 7/1/2014.

Filed Date: 5/27/14.

Accession Number: 20140527-5057.

Comments Due: 5 p.m. ET 6/9/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-872-001.

Applicants: Granite State Gas Transmission, Inc.

Description: Amendment to Capacity Release Filing 21 to be effective 7/1/2014.

Filed Date: 5/23/14.

Accession Number: 20140523-5144.

Comments Due: 5 p.m. ET 6/4/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 27, 2014.
Nathaniel J. Davis, Sr.,
Deputy Secretary.

[FR Doc. 2014-12716 Filed 6-2-14; 8:45 am]

BILLING CODE 6717-01-P